DEPARTMENT OF THE INTERIOR

Minerals Management Service

[Docket No. MMS-2009-OMM-0013]

MMS Information Collection Activity: 1010-0006, Leasing of Sulphur or Oil and Gas in the Outer Continental Shelf and Outer Continental Shelf Oil and Gas Leasing, Extension of a Collection; Submitted for Office of Management and Budget (OMB) Review; Comment Request

AGENCY: Minerals Management Service (MMS), Interior.

ACTION: Notice of extension of an information collection (1010-0006).

SUMMARY: To comply with the Paperwork Reduction Act of 1995 (PRA), we are notifying the public that we have submitted to OMB an information collection request (ICR) to renew approval of the paperwork requirements in the regulations under 30 CFR 256, “Leasing of Sulphur or Oil and Gas in the Outer Continental Shelf,” and 30 CFR 260, “Outer Continental Shelf Oil and Gas Leasing,” and related documents. This notice also provides the public a second opportunity to comment on the paperwork burden of these regulatory requirements.

DATES: Submit written comments by April 5, 2010.

ADDRESSES: Submit comments by either fax (202) 395-5806 or e-mail (OIRA_DOCKET@omb.eop.gov) directly to the Office of Information and Regulatory Affairs, OMB, Attention: Desk Officer for the Department of the Interior (1010-0006). Please also submit a copy of your comments to MMS by any of the means below.

• Electronically: Go to http://www.regulations.gov. In the entry titled “Enter Keyword or ID,” enter docket ID MMS-2009-OMM-0013 then click search. Under the tab “View By Relevance” you can submit public comments and view supporting and related materials available for this collection of information. The MMS will post all comments.

• Mail or hand-carry comments to the Department of the Interior; Minerals Management Service; Attention: Cheryl Blundon; 381 Elden Street, MS-4024; Herndon, Virginia 20170-4817. Please reference Information Collection 1010-0006 in your subject line and include your name and return address.

FOR FURTHER INFORMATION CONTACT: Cheryl Blundon, Regulations and Standards Branch, (703) 787-1607. You may also contact Cheryl Blundon to obtain a copy, at no cost, of the regulation and forms that require the subject collection of information.

SUPPLEMENTARY INFORMATION:

Title: 30 CFR 256, Leasing of Sulphur or Oil and Gas in the Outer Continental Shelf, and 30 CFR 260, Outer Continental Shelf Oil and Gas Leasing.

Forms: MMS-150, MMS-151, MMS-152, MMS-2028, and MMS-2028A.

OMB Control Number: 1010-0006.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Also, the Energy Policy and Conservation Act of 1975 (EPCA) prohibits certain lease bidding arrangements (42 U.S.C. 6213(c)).

The Independent Offices Appropriations Act of 1952, 31 U.S.C. 9701, authorizes Federal agencies to recover the full cost of services that provide special benefits. Under the Department of the Interior's policy implementing this Act, the Minerals Management Service (MMS) is required to charge the full cost for services that provide special benefits or privileges to an identifiable non-Federal recipient above and beyond those that accrue to the public at large. Instruments of transfer of a lease or interest are subject to cost recovery, and MMS regulations specify the filing fee for these transfer applications.

These authorities and responsibilities are among those delegated to the MMS under which we issue regulations governing oil and gas and sulphur operations in the OCS. This information collection request (ICR) addresses the regulations at 30 CFR 256, Leasing of Sulphur or Oil and Gas in the OCS, 30 CFR 260, Outer Continental Shelf Oil and Gas Leasing, and the associated supplementary Notices to Lessees and Operators (NTLs) intended to provide clarification, description, or explanation of these regulations. This ICR also concerns the use of forms to process bonds per subpart I, Bonding, the transfer of interest in leases per subpart J, Assignments, Transfers and Extensions, and the filing of relinquishments per subpart K, Termination of Leases. The forms are:

• MMS-150, Assignment of Record Title Interest in Federal OCS Oil and Gas Lease,

• MMS-151, Assignment of Operating Rights Interest in Federal OCS Oil and Gas Lease,

• MMS-152, Relinquishment of Federal OCS Oil and Gas Lease,

• MMS-2028, OCS Mineral Lessee's and Operator's Bond,

• MMS-2028A, OCS Mineral Lessee's and Operator's Supplemental Plugging and Abandonment Bond.

Regulations implementing these responsibilities are under 30 CFR part 256. Responses are mostly mandatory or required to obtain or retain a benefit. No questions of a sensitive nature are asked. The MMS protects information considered proprietary according to section 26 of the OCS Lands Act, the Freedom of Information Act (5 U.S.C. 552) and its implementing regulations (43 CFR part 2), and 30 CFR 256.10(d).

The MMS uses the information required by 30 CFR part 256 to determine if applicants are qualified to hold leases in the OCS. Specifically, MMS uses the information to:

• Verify the qualifications of a bidder on an OCS lease sale. Once the required information is filed with MMS, a qualification number is assigned to the bidder so that duplicate information is not required on subsequent filings.

• Develop the semiannual List of Restricted Joint Bidders. This identifies parties ineligible to bid jointly with each other on OCS lease sales, under limitations established by the Energy Policy and Conservation Act.

• Ensure the qualification of assignees and track operators on leaseholds. Once a lease is awarded, the transfer of a lessee's interest to another qualified party must be approved by an MMS Regional Director or Regional Supervisor. Also, a lessee may designate an operator to act on the lessee's behalf. This designation must be approved by MMS before the designated operator may begin operations.

• Document that a leasehold or geographical subdivision has been surrendered by the record title holder.

The MMS will use this information to update the corporate database which is used to determine what leases are available for a lease sale and the ownership of all OCS leases. Non-proprietary information is also publicly available from the MMS corporate database via the Internet.

The MMS uses the information required by subpart J—Assignments, Transfers and Extensions, to track the ownership of leases as to record title, operating rights, and pipeline right-of-ways.

The MMS also uses various forms relating to this subpart. The forms allow lessees to submit the required information in a standardized format that helps MMS process the data in a more timely and efficient manner. The five forms associated with this ICR and their purposes are:

MMS-150—Assignment of Record Title Interest in Federal OCS Oil and Gas Lease

MMS-151—Assignment of Operating Rights Interest in Federal OCS Oil and Gas Lease

These two forms pertain to lease ownership and status information that are extremely important to the oil and gas industry as they strategize long-range planning for oil and gas development and the sharing of the expense and liabilities of OCS offshore drilling and development.

MMS-152—Relinquishment of Federal OCS Oil and Gas Lease Form

Once a respondent submits this form, the lessee has relinquished their interest in the lease.

MMS-2028—Outer Continental Shelf (OCS) Minerals Lessee's and Operator's Bond

MMS 2028A—Outer Continental Shelf (OCS) Mineral Lessee's and Operator's Supplemental Plugging and Abandonment Bond

The MMS uses these two forms to hold the surety libel for the obligations and liability of the principal/lessee or operator.

Frequency: On occasion.

Description of Respondents: Potential respondents comprise Federal oil, gas, and sulphur lessees and operators.

Estimated Reporting and Recordkeeping Hour Burden: The estimated annual hour burden for this information collection is a total of 15,732 hours. The following chart details the individual components and estimated hour burdens. In calculating the burdens, we assumed that respondents perform certain requirements in the normal course of their activities. We consider these to be usual and customary and took that into account in estimating the burden.

Citation 30 CFR Part 256 and NTLs | Reporting requirement | Hour burden | Average number of annual responses | Annual burden hours
|  | Non-hour cost burdens
Subparts A through F
Subparts A, C, E, H, L, M | None | Not applicable. |  | 0.
Subparts G, H, I, J: 37; 53; 68; 70; 71; 72; 73 | Request approval for various operations or submit plans or applications. [Approved collections include 1010-0114, 1010-0141, 1010-0142, 1010-0149, 1010-0151] | Burden included with other 30 CFR 250 approved collections. |  | 0.
Subpart B: All sections | Submit suggestions and relevant information in response to request for comments on proposed 5-year leasing program, including information from States/local governments | Not considered IC as defined in 5 CFR 1320.3(h)(4). |  | 0.
Subpart D: All sections | Submit response to Call for Information and Nominations on areas for leasing of minerals in specified areas in accordance with an approved leasing program, including information from States/local governments | Not considered IC as defined in 5 CFR 1320.3(h)(4). |  | 0.
Subpart F: 31 | States or local governments submit comments/recommendations on size, timing or location of proposed lease sale | 4 | 10 responses | 40.
Subtotal |  |  | 10 responses | 40 hours.
Subpart G
Subpart G: 35; 46(d), (e) | Establish a Company File for pre-qualification; submit updated information, submit qualifications for lessee/bidder, request exception | 2 | 104 responses | 208.
41; 43; 46(g) | Submit qualification of bidders for joint bids and statement or report of production, along with supporting information/appeal | 2 | 100 responses | 200.
44; 46 | Submit bids and required information | 5 | 2,000 bids | 10,000.
47(c) | File agreement to accept joint lease on tie bids | 3½ | 2 agreements | 7.
47(e)(1), (e)(3) | Request for reconsideration of bid rejection | Not considered IC as defined in 5 CFR 1320.3(h)(9). |  | 0.
47(f), (i); 50 | Execute lease (includes submission of evidence of authorized agent and request for dating of leases; lease stipulations) | 1 | 852 leases | 852.
Subtotal |  |  | 3,058 responses | 11,267 hours.
Subpart I
Subpart I: 52(f)(2), (g)(2) | Submit authority for Regional Director to sell Treasury or alternate type of securities | 2 | 10 submissions | 20.
53(a), 53(b); 54 | OCS Mineral Lessee's and Operator's Bond (Form MMS-2028) | ¼ | 124 responses | 31.
53(c), (d), (f); 54(e) | Demonstrate financial worth/ability to carry out present and future financial obligations, request approval of another form of security, or request reduction in amount of supplemental bond required | 3½ | 165 submissions | 578 (rounded).
54 | OCS Mineral Lessee's and Operator's Supplemental Plugging & Abandonment Bond (Form MMS-2028A) | ¼ | 136 responses | 34.
55 | Notify MMS of any lapse in previous bond/action filed alleging lessee, surety, or guarantor is insolvent or bankrupt | 1 | 3 notices | 3.
56 | Provide plan/instructions to fund lease-specific abandonment account and related information; request approval to withdraw funds | 12 | 1 submission | 12.
57 | Provide third-party guarantee, indemnity agreement, financial information, related notices, reports, and annual update; notify MMS if guarantor becomes unqualified | 19 | 45 submissions | 855.
57(d)(3); 58 | Notice of and request approval to terminate period of liability, cancel bond, or other security | ½ | 378 requests | 189.
59(c)(2) | Provide information to demonstrate lease will be brought into compliance | 16 | 5 responses | 80.
Subtotal |  |  | 867 responses | 1,802 hours.
Subpart J
Subpart J: 62; 63; 64; 65; 67 | File application and required information for assignment or transfer for approval/comment on filing fee (Forms MMS-150 and MMS-151) | 2 forms @ 30 min ea = 1 hr | 1,680 applications/forms | 1,680.
|  | 1,680 Title/Rights (Transfer) Assignments @ $186-$312,480
63; 64(a)(8) | Submit non-required documents, for record purposes, which respondents want MMS to file with the lease document. [Accepted on behalf of lessees as a service, MMS does not require nor need the filings.] | 0 | 2,995 documents | 0.
|  | 2,995 @ $27 ea = $80,865
64(a)(7) | File required instruments creating or transferring working interests, etc., for record purposes | 1 | 700 filings | 700.
Subtotal |  |  | 5,375 responses | 2,380 hours.
|  |  | $393,345 non-hour cost burdens
Subpart K
Subpart K: 76; 92(a) | File written request for relinquishment (Form MMS-152) | 1 | 240 relinquishments | 240.
77(c) | Comment on lease cancellation (MMS expects 1 in 10 years) | 1 | 1 comment | 1.
Subtotal |  |  | 241 responses | 241 hours.
Subpart N
Subpart N: 92(a) | Request a bonus or royalty credit; submit supporting documentation | 1 | 1 request | 1.
95 | Request approval to transfer bonus or credit to another party; submit supporting information | 1 | 1 request | 1.
Subtotal |  |  | 2 responses | 2 hours.
Citation 30 CFR Part 260 | Reporting requirement | Hour burden | Average number of annual reponses | Annual burden hours
124(a) | Request MMS to reconsider field assignment of a lease | Exempt under 5 CFR 1320.4(a)(2), (c). |  | 0.
Total Reporting |  | 9,553 Responses |  | 15,732 Hours.
|  | $393,345 Non-Hour Cost Burdens

Estimated Reporting and Recordkeeping Non-Hour Cost Burden: We have identified three paperwork non-hour cost burdens associated with the collection of information. Sections 256.62 and 256.64(a) require respondents to pay service fees when submitting either a request for assignment of record title interest, assignment of operating rights interest, and/or to file documents for record purposes. The service fees are required to recover the Federal Government's processing costs. We have not identified any other non-hour cost burdens associated with this collection of information, and we estimate a total reporting non-hour cost burden of $393,345.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on October 6, 2009, we published a Federal Register notice (74 FR 51316) announcing that we would submit this ICR to OMB for approval. The notice provided the required 60-day comment period. In addition, § 256.0 provides the OMB control number for the information collection requirements imposed by the 30 CFR 256 regulations and their associated forms. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by April 5, 2010.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: January 19, 2010.
William S. Hauser,
Acting Chief, Office of Offshore Regulatory Programs.

[FR Doc. 2010-4695 Filed 3-4-10; 8:45 am]

BILLING CODE 4310-MR-P